DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on continuing information collections, as required by the Paperwork Reduction Act of 1995,44 U.S.C. 3506(c)(2)(A) Currently, the Community Development Financial Institutions (CDFI) Fund, Department of the Treasury, is soliciting comments concerning the Community Development Financial Institutions Program Awardee/Allocatee Annual Report (OMB Number 1559-0027), comprised by the Institution Level Report and the Transaction Level Report. The two documents comprise certain reporting requirements for participants in the CDFI Program, the Native American CDFI Assistance (NACA) Program, and the New Markets Tax Credits (NMTC) Program. The Annual Report forms (and related documents, including the CDFI Program assistance agreement, the NACA Program assistance agreement, and the NMTC Program allocation agreement) may be found at the CDFI Fund's Web site at www.cdfifund.gov.

DATES: Written comments must be received on or before July 6, 2010 to be assured of consideration.

ADDRESSES: All comments on the Annual CIIS Report must be submitted in writing and sent to Greg Bischak, Program Manager for Financial Strategies and Research, Community Development Financial Institutions Fund, U.S. Department of the Treasury, 601 13th Street, NW., Suite 200 South, Washington, DC 20005, by e-mail to cdfihelp@cdfi.treas.gov, or by facsimile to (202) 622-7754. Please note this is not a toll free number.

FOR FURTHER INFORMATION CONTACT: Greg Bischak, Program Manager for Financial Strategies and Research, Community Development Financial Institutions Fund, U.S. Department of the Treasury, 601 13th Street, NW., Suite 200 South, Washington, DC 20005, by e-mail to cdfihelp@cdfi.treas.gov, or by facsimile to (202) 622-7754. Please note this is not a toll free number.

SUPPLEMENTARY INFORMATION: Title: CDFI Program and NMTC Program Annual Report including CIIS.

OMB Number: 1559-0027.

Abstract: The mission is to expand the capacity of financial institutions to provide credit, capital and financial services to underserved populations and communities in the United States. The CDFI Fund's strategic goal is to improve the economic conditions of underserved communities by providing capital and technical assistance to CDFIs, capital to insured depository institutions, and NMTC allocations to Community Development Entities (CDEs), which provide credit, capital, financial services, and development services to these markets. The CDFI Fund certifies entities as CDFIs and/or CDEs.

Annual Reporting Requirements: The Annual Report consists of quantitative information at the institution and transaction levels for CDFIs and CDEs and is used to assess: (1) The awardee's/allocatee's activities as detailed in its application materials; (2) the awardee's/allocatee's approved use of the assistance; (3) the awardee's/allocatee's financial condition; (4) the socio-economic characteristics of awardee's/allocatee's borrowers/investees, loan and investment terms, repayment status, and community development impacts; and (4) overall compliance with the terms and conditions of the assistance/allocation agreement entered into by the CDFI Fund and the awardee/allocatee.

A CDFI Program awardee or a NACA Program awardee must submit an Annual Report that comprises several sections, depending on the program and the type of award. The specific components that comprise an awardee's Annual Report are set forth in the assistance agreement that the awardee enters into with the CDFI Fund in order to receive a CDFI Program or a NACA Program award. In summary:

1. A CDFI Program or NACA/NATA Program awardee that is a non-regulated entity and that receives Financial Assistance (FA) only must submit an Annual Report that comprises: (i) A Financial Report (Financial Statement) reviewed or audited by an independent certified public accountant; (ii) Single Audit A-133 (if applicable); (iii) an Institution Level Report (ILR) and a Transaction Level Report (TLR) (which include, among others, questions that measure the awardee's achievement of the Performance Goals and Measures set forth in its assistance agreement); (iv) a Uses of Financial Assistance and Matching Funds Report; and (v) an Explanation of Noncompliance (if applicable).

2. A CDFI Program or NACA Program awardee that is a regulated entity and that receives FA only must submit an Annual Report that comprises: (i) An ILR and a TLR; (ii) a Uses of Financial Assistance and Matching Funds Report; (iii) an Explanation of Noncompliance (if applicable); and (iv) a Single Audit A-133 (if applicable).

3. A CDFI Program or NACA Program awardee that receives an award from the CDFI Fund that is in the form of an equity investment must also submit a Shareholder Report.

4. A CDFI Program or NACA Program awardee that receives Technical Assistance (TA) must submit an Annual Report that comprises: (i) The documents set forth in either (1) or (2) above, as applicable, if the awardee also receives FA; (ii) Uses of Technical Assistance Report; and (iii) OMB form 269A (Financial Status Report), which can be found on the website at http://www.cdfifund.gov.

A NMTC Program allocatee must submit an Annual Report that comprises: (i) A financial statement that has been audited by an independent certified public accountant; (ii) an ILR (including the IRS Compliance Questions section), if the allocatee has issued any Qualified Equity Investments; and (iii) a TLR if the allocatee has issued any Qualified Low-Income Community Investments in the form of loans or investments. The components that comprise an allocatee's Annual Report are set forth in the allocation agreement that the allocatee enters into with the CDFI Fund in order to receive a NMTC Program allocation.

Current Action: Extension of a currently approved collection.

Type of review: Regular review.

Affected Public: Not-for-profit institutions, businesses or other for-profit institutions and tribal entities.

Estimated Number of Annual Respondents:

CDFI Annual ILR only: 75

CDFI Annual TLR and ILR: 159

NMTC Annual Report: 207

Burden per Report Type:

CDFI Program TA awardees Estimated Time Burden: 22 hours

CDFI Program FA ILR only awardees Estimated Time Burden: 32 hours

CDFI Program FA TLR/ILR awardees Estimated Time Burden: 64 hours

NMTC Program allocatees Estimated Time Burden: 65 hours

Total Estimated Burden per Reporting Type:

CDFI Program TA reports: 1,518 hours

CDFI Program FA ILR only reports: 2,400 hours

CDFI Program FA TLR/ILR reports: 10,176 hours

NMTC Program CDE reports: 13,455 hours

Estimated Total Annual Burden Hours = 27,549 hours

Request for Comments: Comments submitted in response to this notice will be summarized and/or included in the request for OMB approval. All comments will become a matter of public record. Comments are invited on all aspects of the information collections, but commentators may wish to focus particular attention on: (a) The cost for CDFIs and CDEs to operate and maintain the services/systems required to provide the required information; (b) ways to enhance the quality, utility, and clarity of the information to be collected; (c) whether the collection of information is necessary for the proper evaluation of the effectiveness and impact of the CDFI Fund's programs, including whether the information shall have practical utility; (d) the accuracy of the CDFI Fund's estimate of the burden of the collection of information; (e) ways to minimize the burden of the collection of information including through the use of technology, such as software for internal accounting and geocoding to capture geographic detail while streamlining and aggregating TLR reporting for upload to CIIS, and; (f) what methods might be used to improve the data quality, internal accounting and efficiency of reporting transactions for serving other targeted populations.

Authority: 12 U.S.C.4707 et seq.; 26 U.S.C. 45D; 12 CFR part 1805.

Dated: May 3, 2010.
Donna J. Gambrell,
Director, Community Development Financial Institutions Fund.

[FR Doc. 2010-10867 Filed 5-6-10; 8:45 am]

BILLING CODE 4810-70-P